NATIONAL TRANSPORTATION SAFETY BOARD

Sunshine Act Meeting Notice and Agenda

Time and Date: 9:30 a.m., Tuesday, October 16, 2007.

Place: NTSB Conference Center, 429 L'Enfant Plaza, SW., Washington, DC 20594.

Status: These three items are open to the public.

Matters To Be Considered:

7937 Railroad Accident Report—Derailment of Washington Metropolitan Area Transit Authority Train near the Mt. Vernon Square Station, Washington, DC, January 7, 2007 (DCA-07-FR-005).

7928 Brief of Accident—Brief and Safety Recommendations to the Federal Aviation Administration and the U.S. Customs and Border Protection Concerning Deficiencies in the Design, Operation, and Safety Management of Unmanned Aircraft Systems.

7928A Recommendation To Convene a Public Forum—The Safety of Unmanned Aircraft System Operations and Investigative Methodologies for Unmanned Aircraft Accidents and Incidents.

News Media Contact: Telephone: (202) 314-6100.

Individuals requesting specific accommodations should contact Chris Bisett at (202) 314-6305 by Friday, October 12, 2007.

The public may view the meeting via a live or archived webcast by accessing a link under “News & Events” on the NTSB home page at http://www.ntsb.gov.

FOR MORE INFORMATION CONTACT: Vicky D'Onofrio, (202) 314-6410.

Dated: Friday, October 5, 2007.
Vicky D'Onofrio,
Federal Register Liaison Officer.

[FR Doc. 07-5018 Filed 10-9-07; 9:45 am]

BILLING CODE 7533-01-M